DEPARTMENT OF LABOR

Employment and Training Administration

Public Meeting of the Advisory Committee on Apprenticeship (ACA)

AGENCY: Employment and Training Administration, DOL.

ACTION: Notice of open meeting.

SUMMARY: Pursuant to Section 10 of the Federal Advisory Committee Act (Pub. L. 92-463; 5 U.S.C. APP.1), notice is hereby given of a meeting of the Advisory Committee on Apprenticeship (ACA).

Time and Date: The meeting will begin at approximately 8:30 a.m. on Thursday, July 22, 2004, and continue until approximately 5 p.m.

Place: The Historic Menger Hotel, 204 Alamo Plaza, San Antonio, Texas 78205 Ballroom B & C, (210) 223-4361.

The agenda is subject to change due to time constraints and priority items which may come before the Committee between the time of this publication and the scheduled date of the ACA meeting.

FOR FURTHER INFORMATION CONTACT: Mr. Anthony Swoope, Administrator, Office of Apprenticeship Training, Employer and Labor Services, Employment and Training Administration, U.S. Department of Labor, Room N-4671, 200 Constitution Avenue, NW., Washington, DC 20210. Telephone: (202) 693-2796, (this is not a toll-free number).

Matters to be Considered: The agenda will focus on the following topics:

• Debriefing on Workforce Innovations Conference

• Partnership with the Department of Education

• Coordination with Texas Workforce Investment Act (WIA), Grants, One Stop Centers & Apprenticeship

• Status on ACA Recommendations and Reports

• Public Comment

Status: Members of the public are invited to attend the proceedings. Individuals with special needs should contact Ms. Marion Winters at (202) 693-3786 no later than July 12, 2004, if special accommodations are required.

Any member of the public who wishes to file written data or comments pertaining to the agenda may do so by forwarding the request to Mr. Anthony Swoope, Administrator, Office of Apprenticeship Training, Employer and Labor Services, Employment and Training Administration, U.S. Department of Labor, Room N-4671, 200 Constitution Avenue, NW., Washington, DC 20210. Such submissions should be sent by July 12, 2004, to be included in the record for the meeting. Any member of the public who wishes to speak at the meeting should indicate the nature of the intended presentation and the amount of time needed by furnishing a written statement to the Designated Federal Official, Mr. Anthony Swoope, by July 12, 2004. The Chairperson will announce at the beginning of the meeting the extent to which time will permit the granting of such requests.

Signed at Washington, DC, this 28th day of June, 2004.
Emily Stover DeRocco,
Assistant Secretary for Employment and Training.

[FR Doc. 04-15173 Filed 7-2-04; 8:45 am]

BILLING CODE 4510-30-M